DEPARTMENT OF LABOR

Employment and Training Administration

Notice of Availability of Funds and Solicitation for Grant Applications for Women in Apprenticeship and Nontraditional Occupations (WANTO); Funding Opportunity Number: SGA/DFA PY-11-10

AGENCY: Employment and Training Administration, Labor Department.

ACTION: Notice.

SUMMARY: Through this notice, the U.S. Department of Labor Employment and Training Administration (ETA), announces the availability of approximately $1,800,000 in grant funds authorized under the WANTO Act of 1992 to award six consortia made up of a community-based organization (CBO), a Local Workforce Investment Area (LWIA) established under the Workforce Investment Act and a registered apprenticeship program (RAP) sponsor. Each consortium will conduct innovative projects to improve outreach, recruitment, hiring, training, employment, and retention of women in apprenticeships in the nontraditional occupations. Each consortium must consist of a minimum of three components: (1) A CBO (which may be a faith-based organization) that has demonstrated experience in providing women with job-training services; (2) a LWIA (which includes a representative of the local government responsible for administering workforce programs under WIA or Workforce Investment Board); and (3) a RAP sponsor (which can be an individual employer, association of employers, or an apprenticeship committee which includes joint and non-joint committees designated by the sponsor to administer and operate an apprenticeship program and in whose name the apprenticeship program is registered or approved). It is anticipated that awards will be in the amount of up to $300,000 over the two-year grant period.

DATES: The closing date for receipt of applications is May 21, 2012.

FOR FURTHER INFORMATION CONTACT: L. Gerald Tate, Grants Management Specialist, Office of Grants Management, at (202) 693-3703.

SUPPLEMENTARY INFORMATION: The Grant Officer for this SGA is Latifa Jeter.

The complete SGA and any subsequent SGA amendments, in connection with this solicitation are described in further detail on ETA's Web site at http://www.doleta.gov/grants/ or on http://www.grants.gov. The Web sites provide application information, eligibility requirements, review and selection procedures and other program requirements governing this solicitation.

Signed April 3, 2012 in Washington, DC.
Donna Kelly,
Grant Officer, Employment and Training Administration.

[FR Doc. 2012-8494 Filed 4-9-12; 8:45 am]

BILLING CODE 4510-FN-P